SMALL BUSINESS ADMINISTRATION

Export Express Pilot Program

AGENCY: U.S. Small Business Administration (SBA).

ACTION: Notice of Pilot Program extension.

SUMMARY: This notice announces the extension of SBA's Export Express Pilot Program until December 31, 2010. This extension will allow time for the Agency to further market and evaluate this specific loan program for exporters and analyze the Program's performance during the next 12 months.

DATES: The Export Express Pilot Program is extended under this notice until December 31, 2010.

FOR FURTHER INFORMATION CONTACT: Patrick Tunison, Office of International Trade, U.S. Small Business Administration, 409 Third Street, SW., Washington, DC 20416; Telephone (202) 205-7429; Patrick.Tunison@sba.gov.

SUPPLEMENTARY INFORMATION: Established in 1998, the Export Express Pilot Program assists current and prospective small business exporters, particularly those needing revolving lines of credit. Export Express is an SBA Pilot Program under the Agency's 7(a) lending program that extends a streamlined process to small business exporters and their lenders. The maximum loan amount under this Program is $250,000. The pilot was scheduled to end on December 31, 2009. This notice announces the extension of SBA's Export Express Pilot Program until December 31, 2010.

SBA estimates that small business exports grew by 58% from 2002 to 2007, from $300 billion to $475 billion (Source: SBA, Bureau of Economic Analysis GDP data and Census Bureau A Profile of US Exporting Companies). Almost a quarter of a million small businesses export, and they account for 29 percent of all U.S. exports (Source: A Profile of US Exporting Companies, Census Bureau). Designed to serve the particular capital needs of small business exporters, the number of Export Express loans approved in 2009 was double those closed in 2008 (227 versus 104) and the approved loan dollar amount increased by more than 91% ($15M versus $8M). In addition, the number of lenders delegated the authority to use expedited loan processing was increased by five in 2009. These indicators reflect an increasing utility and need for the Export Express Program. Extension of this pilot program through December 31, 2010 will enable the Agency to analyze performance and refine the elements/structure of the Export Express Loan Pilot Program.

In prior years, the Agency stated that it would complete an analysis of this program to help determine its long-term viability. This analysis primarily includes lender and borrower participation in the program as well as portfolio performance. Because this year the program was changed through Recovery Act provisions that reduced program fees and increased guarantees, the Agency is unable to separate baseline program statistics from this year's special circumstances and is therefore providing an additional pilot year to review performance.

Authority: 13 CFR 120.3.

Richard Blewett,
Acting Director, Office of Financial Assistance.

[FR Doc. E9-29673 Filed 12-11-09; 8:45 am]

BILLING CODE 8025-01-P